DEPARTMENT OF THE INTERIOR

Fish and Wildlife Service

[FWS-HQ-MB-2016-N080; 91100-3740-GRNT 7C]

Announcement of Public Meeting: North American Wetlands Conservation Council

AGENCY: Fish and Wildlife Service, Interior.

ACTION: Notice of public meeting.

SUMMARY: The North American Wetlands Conservation Council (Council) will meet to select North American Wetlands Conservation Act (NAWCA) grant proposals for recommendation to the Migratory Bird Conservation Commission (Commission). This meeting is open to the public, and interested persons may present oral or written statements.

DATES: The Council meeting will occur on June 22, 2016, from 8:30 a.m. to 4:30 p.m. The Council will consider U.S. Standard grant proposals. If you are interested in presenting information at this public meeting, contact the Council Coordinator no later than June 10, 2016. If you require reasonable accommodations to attend the meeting, contact the person listed under FOR FURTHER INFORMATION CONTACT at least one week prior to the meeting.

ADDRESSES: The Council meeting will take place at the Lewis and Clark Interpretive Center, 4201 Giant Springs Road, Great Falls, Montana 59405.

FOR FURTHER INFORMATION CONTACT: Sarah Mott, Council Coordinator, by phone at 703-358-1784; by email at dbhc@fws.gov; or by U.S. mail at U.S. Fish and Wildlife Service, 5275 Leesburg Pike MS: MB, Falls Church, Virginia 22041. Persons who use a telecommunications device for the deaf (TDD) may call the Federal Information Relay Service (FIRS) at 1-800-877-8339 to contact the above individual during normal business hours. The FIRS is available 24 hours a day, 7 days a week, to leave a message or question with the above individuals. You will receive a reply during normal business hours.

SUPPLEMENTARY INFORMATION: The Council meets two to three times per year to select NAWCA grant proposals for recommendation to the Commission. Council meetings are open to the public, and interested persons may present oral or written statements.

About the Council

In accordance with the North American Wetlands Conservation Act (NAWCA; Pub. L. 101-233, 103 Stat. 1968, December 13, 1989, as amended), the State-private-Federal Council meets to consider wetland acquisition, restoration, enhancement, and management projects for recommendation to, and final funding approval by, the Commission.

NAWCA provides matching grants to organizations and individuals who have developed partnerships to carry out wetlands conservation projects in the United States, Canada, and Mexico. These projects must involve long-term protection, restoration, and/or enhancement of wetlands and associated uplands habitats for the benefit of all wetlands-associated migratory birds. Project proposal due dates, application instructions, and eligibility requirements are available on the NAWCA Web site at www.fws.gov/birds/grants/north-american-wetland-conservation-act.php.

Public Input

If you wish to | You must contact the Council Coordinator (see FOR FURTHER INFORMATION CONTACT) no later than
(1) Attend the Council meeting | June 10, 2016.
(2) Submit written information or questions before the Council meeting for consideration during the meeting | June 10, 2016.

Submitting Written Information or Questions

Interested members of the public may submit relevant information or questions for consideration during the public meeting. If you wish to submit a written statement, you must contact the Council Coordinator by the date in Public Input. Written statements must be supplied to the Council Coordinator in both of the following formats: One hard copy with original signature, and one electronic copy via email (acceptable file formats are Adobe Acrobat PDF, MS Word, MS PowerPoint, or rich text file).

Giving an Oral Presentation

Individuals or groups who request to make an oral presentation at the meeting will be limited to 2 minutes per speaker, with no more than a total of 30 minutes for all speakers. Interested parties should contact the Council Coordinator by the date in Public Input, in writing (preferably via email; see FOR FURTHER INFORMATION CONTACT), to be placed on the public speaker list for this meeting. Nonregistered public speakers will not be considered during the Council meeting. Registered speakers who wish to expand upon their oral statements, or those who had wished to speak but could not be accommodated on the agenda, are invited to submit written statements to the Council within 30 days following the meeting.

Meeting Minutes

Summary minutes of the Council meeting will be maintained by the Council Coordinator at the address under FOR FURTHER INFORMATION CONTACT. Meeting notes will be available by contacting the Council Coordinator within 30 days following the meeting. Personal copies may be purchased for the cost of duplication.

Jerome Ford,
Assistant Director, Migratory Birds.

[FR Doc. 2016-10729 Filed 5-5-16; 8:45 am]

BILLING CODE 4333-15-P